DEPARTMENT OF AGRICULTURE

Food and Nutrition Service

Agency Information Collection Activities: Proposed Collection; Comment Request—Information Collection for the National School Lunch Program

AGENCY: Food and Nutrition Service (FNS), USDA.

ACTION: Notice.

SUMMARY: In accordance with the Paperwork Reduction Act of 1995, this notice invites the general public and other public agencies to comment on this information collection. This is a revision of a currently approved collection which FNS employs to determine public participation in the National School Lunch Program.

DATES: Written comments must be received on or before January 19, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Lynn Rodgers-Kuperman, Branch Chief, Program Monitoring, Child Nutrition Division, Food and Nutrition Service, U.S. Department of Agriculture, 3101 Park Center Drive, Alexandria, VA 22302-1594. Comments may also be submitted via fax to the attention of Lynn Rodgers-Kuperman at 703-305-2879 or via email to Lynn.Rodgers@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Lynn Rodgers-Kuperman at the address indicated above or by phone at 703-305-2595.

SUPPLEMENTARY INFORMATION:

Title: 7 CFR part 210, National School Lunch Program.

Forms: FNS-640, FNS-66, FNS-66A, and FNS-828.

OMB Control Number: 0584-0006.

Expiration Date: February 29, 2016.

Type of Request: Revision of a currently approved collection.

Abstract: The Richard B. Russell National School Lunch Act (NSLA), as amended, authorizes the National School Lunch Program (NSLP) to safeguard the health and well-being of the nation's children and provide free or reduced price school lunches to qualified students through subsidies to schools. The United States Department of Agriculture (USDA) provides States with general and special cash assistance and donations of foods to assist schools in serving nutritious lunches to children each school day. Participating schools must serve lunches that are nutritionally adequate and maintain menu and food production records and the latest nutritional analysis to demonstrate compliance with the meal requirements.

Section 10 of the Child Nutrition Act of 1966 (42 U.S.C. 1779) requires the Secretary of Agriculture to prescribe such regulations as deemed necessary to carry out this Act and the NSLA (42 U.S.C. 1751 et seq.). Pursuant to that provision, the Secretary has issued 7 CFR part 210, which sets forth policies and procedures for the administration and operation of the NSLP. The Program is administered at the State and school food authority (SFA) levels and operations include the submission of applications and agreements, submission of the number of meals served and payment of claims, submission of data from required monitoring reviews conducted by the State agency, and maintenance of records. State and local operators of the NSLP are required to meet Federal reporting and accountability requirements and are also required to maintain records that include school food service accounts of revenues and expenditures.

In addition, FNS collects program data from the State agencies on Forms FNS-10, Report of School Operations; FNS-13, Annual Report of State Revenue Matching; and FNS-777, Financial Status Report. These forms are approved under OMB Control # 0584-0594, Food Program Reporting System (FPRS), which expires June 30, 2017. The reporting burden associated with these reports is covered under #0584-0594 and is not associated with this information collection. However, the recordkeeping burden is still maintained in this collection.

The reporting and recordkeeping burden associated with this revision is decreased from 11,337,788 to 9,871,395 hours. This change is mainly due to adjustments, the majority of which is the removal of duplicate burden, removal of burden that occurs only once, burden changes for an increase in schools participating in the Program and a decrease in number of School Food Authorities operating the Program, and other program changes.

This information collection is required to administer and operate this program in accordance with the NSLA. All of the reporting and recordkeeping requirements associated with the NSLP are currently approved by the Office of Management and Budget and are in force. This is a revision of the currently approved information collection.

Affected Public: (1) State agencies; (2) School Food Authorities; and (3) schools.

Number of Respondents: 121,210 (56 State agencies (SAs), 19,822 school food authorities (SFAs), and 101,332 schools).

Number of Responses per Respondent: 4.14573.

Total Annual Responses: 502,504.

Reporting Time per Response: 0.703875.

Estimated Annual Reporting Burden: 353,700.

Number of Recordkeepers: 121,210 (56 SAs, 19,822 SFAs, 101,332 schools).

Number of Records per Record Keeper: 406.294827.

Estimated Total Number of Records: 49,246,996.

Recordkeeping Time per Response: 0.19326446.

Total Estimated Recordkeeping Burden: 9,517,694.

Annual Recordkeeping and Reporting Burden: 9,871,395.

Current OMB Inventory for Part 210: 11,337,788.

Difference (change in burden with this renewal): (1,466,393).

Refer to the table below for estimated total annual burden for each type of respondent.

Affected public | Estimated number of respondents | Number of responses per respondent | Total annual responses | Estimated average hours per response | Estimated total burden (hours)
Reporting
State Agencies | 56 | 122 | 6,832 | 7.7762 | 53,127
School Food Authorities | 19,822 | 15 | 293,008 | 0.956653 | 280,307
Schools | 101,332 | 2 | 202,664 | 0.1 | 20,266
Total Estimated Reporting Burden | 121,210 |  | 502,504 |  | 353,700
Recordkeeping
State Agencies | 56 | 1419 | 79,464 | 1.5913 | 126,451
School Food Authorities | 19,822 | 20 | 396,440 | 4.5380 | 1,799,045
Schools | 101,332 | 481 | 48,771,092 | 0.15567 | 7,592,199
Total Estimated Recordkeeping Burden | 121,210 |  | 49,246,996 |  | 9,517,694
Total of Reporting and Recordkeeping
Reporting | 121,210 | 4.14573 | 502,504 | 0.703875 | 353,700
Recordkeeping | 121,210 | 406.294827 | 49,246,996 | 0.19326446 | 9,517,694
Total |  |  | 49,749,500 |  | 9,871,395

Dated: November 9, 2015.
Audrey Rowe,
Administrator, Food and Nutrition Service.

[FR Doc. 2015-29390 Filed 11-17-15; 8:45 am]

BILLING CODE 3410-30-P